DEPARTMENT OF COMMERCE

Technology Administration

National Medal of Technology Nomination Evaluation Committee Meeting

AGENCY: Technology Administration, U.S. Department of Commerce.

ACTION: Notice of closed meeting.

SUMMARY: The National Medal of Technology Nomination Evaluation Committee will meet in closed session on Tuesday, April 3, 2007. The primary purpose of the meeting is the discussion of relative merits of persons and companies nominated for the Medal.

DATES: The meeting will convene Tuesday, April 3, 2007 at 10 a.m. and adjourn at 4 p.m.

ADDRESSES: The meeting will be held at the Department of Commerce, Technology Administration, 1401 Constitution Avenue, NW., Washington, DC, Room 4824.

FOR FURTHER INFORMATION CONTACT: Connie Chang, Research Director, Office of the Under Secretary, U.S. Department of Commerce, 1401 Constitution Avenue, NW., Herbert C. Hoover Building, Room 4824, Washington, DC 20230, telephone: 202-482-1575.

SUPPLEMENTARY INFORMATION: Pursuant to the Federal Advisory Committee Act, 5 U.S.C. app. 2, notice is hereby given that the National Medal of Technology Nomination Evaluation Committee (NMTNEC), Technology Administration, will meet at the U.S. Department of Commerce in the District of Columbia.

The committee, consisting of twelve members, was established in accordance with the provisions of the Committee's charter and the Federal Advisory Committee Act. The NMTNEC meeting will be closed to the public in accordance with Section 552b(c)(9)(B) of Title 5, U.S.C. because it will involve discussion of relative merits of persons and companies nominated for the Medal. Public disclosure of this information would likely frustrate implementation of the National Medal of Technology program because premature publicity about candidates under consideration for the Medal, who may or may not ultimately receive the award, would be likely to discourage nominations for the Medal.

The Secretary of Commerce is responsible for recommending to the President prospective recipients of the National Medal of Technology. The committee makes its recommendations for Medal candidates to the Secretary of Commerce, who in turn makes recommendations to the President for final selection. Committee members are drawn from both the public and private sectors and are appointed by the Secretary for three-year terms, with eligibility for one reappointment. The committee members are composed of distinguished experts in the fields of science, technology, business and patent law.

The Assistant Secretary for Administration, with the concurrence of the General Counsel, formally determined on March 14, 2007 pursuant to Section 10(d) of the Federal Advisory Committee Act, that the meeting may be closed because they are concerned with matters that are within the purview of 5 U.S.C. 552(c)(4), (6) and (9)(B). Due to closure of the meeting, copies of the minutes of the meeting will not be available. A copy of the determination is available for public inspection in Technology Administration, Room 4824, U.S. Department of Commerce.

Dated: March 19, 2007.
Robert C. Cresanti,
Under Secretary for Technology.

[FR Doc. 07-1436 Filed 3-21-07; 8:45 am]

BILLING CODE 3510-18-M